DEPARTMENT OF COMMERCE

National Oceanic and Atmospheric Administration

50 CFR Part 300

[Docket No. 160422356-7283-02]

RIN 0648-XF630

International Fisheries; Pacific Tuna Fisheries; 2017 Commercial Pacific Bluefin Tuna Fishery Closure in the Eastern Pacific Ocean

AGENCY: National Marine Fisheries Service (NMFS), National Oceanic and Atmospheric Administration (NOAA), Commerce.

ACTION: Temporary rule; closure.

SUMMARY: NMFS is temporarily closing the U.S. commercial fishery for Pacific bluefin tuna in the eastern Pacific Ocean (EPO) through December 31, 2017, because the 2017 catch limit of 425 metric tons has been exceeded. This action is necessary to prevent the fishery from further exceeding the applicable catch limit established by the Inter-American Tropical Tuna Commission (IATTC) in Resolution C-16-08 (Measures for the Conservation and Management of Pacific Bluefin Tuna in the Eastern Pacific Ocean).

DATES: The rule is effective 12 a.m. local time August 28, 2017, through 11:59 p.m. local time December 31, 2017.

FOR FURTHER INFORMATION CONTACT: Celia Barroso, NMFS West Coast Region, 562-432-1850.

SUPPLEMENTARY INFORMATION: The United States is a member of the IATTC, which was established under the Convention for the Establishment of an Inter-American Tropical Tuna Commission signed in 1949 (Convention). The Convention provides an international agreement to ensure the effective international conservation and management of highly migratory species of fish in the IATTC Convention Area. The IATTC Convention Area, as amended by the Antigua Convention, includes the waters of the EPO bounded by the coast of the Americas, the 50° N. and 50° S. parallels, and the 150° W. meridian.

Fishing for Pacific bluefin tuna in the EPO is managed, in part, under the Tuna Conventions Act as amended (Act), 16 U.S.C. 951-962. Under the Act, NMFS must publish regulations to carry out recommendations of the IATTC that have been approved by the Department of State (DOS). Regulations governing fishing by U.S. vessels in accordance with the Act appear at 50 CFR part 300, subpart C. These regulations implement IATTC recommendations for the conservation and management of highly migratory fish resources in the EPO.

In 2016, the IATTC adopted Resolution C-16-08, which establishes a 600 metric ton (mt) catch limit of Pacific bluefin tuna applicable to U.S. commercial fishing vessels in 2017 and 2018, combined. Additionally, catch is not to exceed 425 mt in a single year; therefore, the annual limit in 2017 is 425 mt. With the approval of the DOS, NMFS implemented this catch limit by notice-and-comment rulemaking under the Act (82 FR 18704, April 21, 2017, and codified at 50 CFR 300.25).

NMFS, through monitoring landings data and other available information, has determined that the 2017 catch limit has been exceeded. In accordance with 50 CFR 300.25(g), this Federal Register notice announces that the U.S. fishery for Pacific bluefin tuna in the IATTC Convention Area will be closed starting on August 28, 2017, through the end of the 2017 calendar year. The 2018 catch limit will be calculated by subtracting the amount caught in 2017 from 600 mt.

During the closure, a U.S. fishing vessel may not be used to target, retain on board, transship, or land Pacific bluefin tuna captured in the IATTC Convention Area, except as follows: Any Pacific bluefin tuna already on board a fishing vessel on August 28, 2017, may be retained on board, transshipped, and/or landed, to the extent authorized by applicable laws and regulations, provided all Pacific bluefin tuna are landed within 14 days after the effective date of this rule, that is, no later than September 11, 2017.

Classification

NMFS has determined there is good cause to waive prior notice and opportunity for public comment pursuant to 5 U.S.C. 553(b)(B). This action is based on the best available information and is necessary for the conservation and management of Pacific bluefin tuna. Compliance with the notice and comment requirement would be impracticable and contrary to the public interest because NMFS would be unable to ensure that the 2017 Pacific bluefin tuna catch limit is not further exceeded, and that biennial limit of 600mt is also not exceeded. For the same reasons, NMFS has also determined there is good cause to waive the requirement for a 30-day delay in effectiveness under 5 U.S.C. 553(d)(3).

This action is required by § 300.25(a) and is exempt from review under Executive Order 12866.

Authority: 16 U.S.C. 951 et seq.

Dated: August 23, 2017.
Alan D. Risenhoover,
Director, Office of Sustainable Fisheries, National Marine Fisheries Service.

[FR Doc. 2017-18157 Filed 8-23-17; 4:15 pm]

BILLING CODE 3510-22-P